DEPARTMENT OF THE INTERIOR

Fish and Wildlife Service

Notice of Availability of a Draft Environmental Assessment for the Sheldon National Wildlife Refuge Horse and Burro Management Program and Announcement of a Public Meeting

AGENCY: Fish and Wildlife Service, Interior.

ACTION: Notice of availability and announcement of a public meeting.

SUMMARY: The Fish and Wildlife Service (Service) announces that a draft environmental assessment (EA) for an interim Sheldon National Wildlife Refuge (Refuge) Horse and Burro Management Program (Program) is available for review and comment. The EA provides a consolidated and updated National Environmental Policy Act (NEPA) evaluation of the Sheldon Refuge Program. The EA analyzes the environmental effects of various alternatives for managing the Refuge's horses and burros until a Comprehensive Conservation Plan (CCP) for the Refuge is completed.

DATES: Comments must be received by May 17, 2007 (see addresses). A public meeting will be held on May 8, 2007 in Lakeview, Oregon (details of the meeting will be posted on Internet).

ADDRESSES: Address comments on the draft EA by e-mail to Sheldon-Hart@fws.gov or in writing to: Sheldon National Wildlife Refuge, P.O. Box 111, Lakeview, OR 97630. The EA will be available on the Internet at http://www.fws.gov/pacific/news/2006/Sheldon_Horse_EA_draft.pdf.

FOR FURTHER INFORMATION CONTACT: Paul Steblein, Project Leader, Sheldon National Wildlife Refuge, at e-mail Sheldon-Hart@fws.gov, fax (541) 947-4414, or phone (541) 947-3315.

SUPPLEMENTARY INFORMATION:

Background

The Sheldon Refuge encompasses approximately 572,900 acres of semiarid desert in the northwestern corner of Nevada, and approximately 630 acres across the State line, in Oregon.

The Sheldon Refuge was established in the 1930's for the conservation of antelope (American pronghorn), migratory birds, and other species of wildlife. By law, the Service must manage its refuges to achieve the purpose(s) of the refuge and accomplish the mission of the National Wildlife Refuge System, which focuses on the conservation, management, and, where appropriate, restoration of native fish, wildlife, plants, and their habitats. The terrain of Sheldon Refuge is characterized by flat, open expanses of sagebrush lands, narrow canyons that empty into rolling valleys, and broad rimrock tables that end abruptly in vertical cliffs. Surface water supplies are severely limited. Annual precipitation averages less than 13 inches in the western portions of the Refuge, and decreases to 6 inches in the easterly parts. With elevations averaging approximately 6,000 feet, the area has been appropriately labeled high-desert country.

Alternatives

The draft EA for Sheldon Refuge's Horse and Burro Management Program identifies and describes four alternatives. Program objectives for all of the alternatives are based on the Sheldon National Wildlife Refuge Renewable Natural Resources Management Plan (Management Plan) and associated NEPA document published in 1980, and include: (1) Maintaining a manageable feral horse and burro population (75 to 125 horses, 30 to 60 burros) in balance with other wildlife species for the enjoyment of Refuge visitors; (2) stopping range deterioration and improving wildlife habitat and watershed conditions, and reducing impacts on existing water resources; (3) ensuring that the Refuge range provides ample forage for all wildlife populations endemic to the area; and (4) reducing the spread of feral horses and burros into key wildlife areas. Alternative B, the Status Quo Alternative, is the Service's preferred alternative. The alternatives are briefly discussed below.

Alternative A, No Agency Action on Horse and Burro Management. Under Alternative A, the Refuge would discontinue the ongoing program of horse and burro population management. Program objectives from the 1980 Management Plan would not be met. Program elements such as gathering, providing interim care for and adoptions of the Refuge's horses and burros would no longer be conducted. Without any control, horse and burro populations on the Refuge could double approximately every four years, severely impacting Refuge lands, water sources, wildlife habitats and associated fish, wildlife and plant populations, and posing a safety risk along major public roads. Implementation of this alternative would likely prevent the Refuge from being managed to achieve the purposes for which it was established. The environmental effects of this alternative contrast with those of the three action-based alternatives; B, C, and D.

Alternative B, Status Quo. Under Alternative B, the Refuge's current horse and burro management program would continue until a CCP has been completed for the Refuge. Implementing this alternative would include minor improvements to the program through an adaptive management process. This alternative would place horses and burros up for adoption through several private adoption agents. Agents are screened and certified based on adequate facilities, appropriate knowledge on horse care and handling, successful record of prior horse adoptions, and interviews with character witnesses and a veterinarian. The adoption agents would screen potential homes for the horses and burros, care for them in the intervening time, and coordinate transportation. The horses and burros would be shipped to the agents from the Refuge and then transported to their adopted homes. Refuge staff would use three methods to gather horses and burros: (1) Corrals set with bait (such as hay) to draw in burros; (2) horseback riders to herd horses into corrals; and (3) helicopters to herd horses into corrals. Management of horses and burros consumes staff time and funding, detracting from the Refuge's ability to conduct other programs necessary to achieve Refuge purposes as well as Refuge management objectives associated with native wildlife species and wildlife dependant public use. However, implementation of Alternative B would best accomplish current management objectives for horse and burro management and would be the most cost effective program.

Alternative C, Adoption of Horses and Burros through Individuals. Under Alternative C, Refuge staff would: screen individuals and organizations for suitability for potential adoption of gathered horses and burros; care for them until they are picked up by the adopter; coordinate brand inspections; secure health certificates; and facilitate transportation. Other aspects of the program would be the same as under Alternative B. Refuge staff would use three methods to gather horses and burros: (1) Corrals set with bait to draw in burros; (2) horseback riders to herd horses into corrals; and (3) helicopters to herd horses into corrals. Implementing this Alternative would require allocation of more staff time and resources which would detract from other Refuge programs, such as facility maintenance, working and meeting with the public, wildlife monitoring and studies, range and fire management, and law enforcement.

Alternative D, Conduct Horse and Burro Gathering by Bait and Horseback Techniques Only. Under Alternative D, using wranglers on horseback only to gather horses and burros is proposed, rather than using both helicopters and horseback. In addition, burros would be drawn into corrals with bait. An adoption agent would screen and select the adopters to ensure good homes, and care for the horses and burros in the intervening time. This Alternative, using bait and horseback gathering only, would be less efficient and less effective than using both helicopters and horseback riders. This approach would delay completion of the gather and achievement of other Refuge conservation objectives. Selection of this alternative would allow impacts from horse and burro populations to continue for longer periods, and reduce funds available for other Refuge management and operations.

Public Comments

Public comments are requested on the draft Environmental Assessment for the Sheldon National Wildlife Refuge Horse and Burro Management Program and its evaluation of the environmental effects of the four alternatives. Comments on the draft EA will be analyzed and addressed in final documents. All comments received from individuals become part of the official public record available for public review. Requests for copies of comments will be handled in accordance with the Administrative Procedure Act, Freedom of Information Act, NEPA regulations, and Service and Department of the Interior policies and procedures.

Dated: April 11, 2007.
Don Weathers,
Acting Regional Director, Region 1, Portland, Oregon.

[FR Doc. E7-7243 Filed 4-16-07; 8:45 am]

BILLING CODE 4310-55-P